BROADCASTING BOARD OF GOVERNORS

Sunshine Act Meeting Notice

DATE AND TIME: Friday, December 17, 2010, 11 a.m.

PLACE: Cohen Building, Room 3321, 330 Independence Ave., SW., Washington, DC 20237.

SUBJECT: Notice of Meeting of the Broadcasting Board of Governors.

SUMMARY: The Broadcasting Board of Governors (BBG) will be meeting at the time and location listed above. The BBG will hear a Middle East trip report, a report from the Board's Budget and Strategy Committee, and a report from the Chairman of the International Broadcasting Bureau Coordinating Committee on distribution/technology. The meeting is open to public observation via streamed Web cast, both live and on-demand, on the BBG's public Web site at http://www.bbg.gov.

CONTACT PERSON FOR MORE INFORMATION: Persons interested in obtaining more information should contact Paul Kollmer-Dorsey at (202) 203-4545.

Paul Kollmer-Dorsey,
Deputy General Counsel.

[FR Doc. 2010-31397 Filed 12-9-10; 4:15 pm]

BILLING CODE 8610-01-P